DEPARTMENT OF COMMERCE

National Oceanic and Atmospheric Administration

50 CFR Part 665

[Docket No. 060724200-6302-03; I.D. 052506A and 071106G]

RIN 0648-AT95 and 0648-AT94

Fisheries in the Western Pacific; Bottomfish and Seamount Groundfish, Crustacean, and Precious Corals Fisheries; Permit and Reporting Requirements

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing the amendments to the Bottomfish and Seamount Groundfish Fishery Management Plan (FMP), Crustaceans FMP, and Precious Corals FMP. The intent of this final rule is to inform the public of the permitting and reporting requirements.

DATES: Amendments to §§ 665.14, 665.41, and 665.61, published at 71 FR 53605 (September 12, 2006), and amendments to §§ 665.14 and 665.61, published at 71 FR 64474 (November 2, 2006) are effective on January 2, 2007.

ADDRESSES: Written comments regarding the burden-hour estimates or other aspects of the collection-of-information requirements contained in this final rule may be submitted to William L. Robinson, Administrator, NMFS Pacific Islands Region (PIR), 1601 Kapiolani Boulevard, Suite 1110, Honolulu, HI 96814-4700, and to David Rostker, OMB, by e-mail to David_Rostker@omb.eop.gov, or fax to 202-395-7285.

FOR FURTHER INFORMATION CONTACT: Bob Harman, NMFS PIR, 808-944-2271.

SUPPLEMENTARY INFORMATION:

Electronic Access

This Federal Register document is also accessible at the web site of the Office of the Federal Register: www.gpoaccess.gov/fr/index.html.

Background

A final rule for amendments to the Bottomfish and Seamount Groundfish, Crustaceans, and Precious Corals FMPs was published in the Federal Register on September 12, 2006 (71 FR 53605), and the requirements of that final rule, other than the collection-of-information requirements, were effective on October 12, 2006. Because OMB approval of the collection-of-information requirements had not been received by the date that final rule was published, the effective date of the permitting and reporting requirements in that rule was delayed. Also, another final rule for an amendment to the Bottomfish and Seamount Groundfish FMP was published in the Federal Register on November 2, 2006 (71 FR 64474), and the requirements of that final rule, other than the collection-of-information requirements, will be effective on December 4, 2006. Because OMB approval of the collection-of-information requirements had not been received by the date that rule was published, the effective date of the permitting and reporting requirements in that rule was also delayed.

OMB approved the collection-of-information requirements contained in the two rules on November 7, 2006. Accordingly, this final rule makes effective the collection-of-information requirements at §§ 665.14, 665.41, and 665.61, which were amended in the September 12, 2006, final rule, and the collection-of- information requirements at §§ 665.14 and 665.61, which were amended in the November 2, 2006, final rule.

Classification

This final rule has been determined to be not significant for purposes of Executive Order 12866.

Notwithstanding any other provision of the law, no person is required to respond to, and no person shall be subject to penalty for failure to comply with, a collection of information subject to the requirements of the Paperwork Reduction Act (PRA), unless that collection of information displays a currently valid OMB control number.

This final rule contains revisions to collection-of- information requirements subject to the PRA under OMB control numbers 0648-0214 and 0648-0490. The public reporting burden for these requirements is estimated to be 30 min for a new permit application, and 5 min for completing a fishing logbook each day. These estimates include time for reviewing instructions, searching existing data sources, gathering and maintaining the data needed, and completing and reviewing the collection of information. Send comments regarding these burden estimates or any other aspect of this data collection, including suggestions for reducing the burden, to William L. Robinson (see ADDRESSES), or by e-mail to David_Rostker@omb.eop.gov, or fax to 202-395-7285.

Dated: November 27, 2006.
Samuel D. Rauch III,
Deputy Assistant Administrator for Regulatory Programs, National Marine Fisheries Service.

[FR Doc. E6-20378 Filed 11-30-06; 8:45 am]

BILLING CODE 3510-22-S